DEPARTMENT OF THE TREASURY

Internal Revenue Service

Open Meeting of the Taxpayer Advocacy Panel's Tax Forms and Publications Project Committee

AGENCY: Internal Revenue Service (IRS) Treasury.

ACTION: Notice of change of meeting date.

SUMMARY: In the Federal Register notice that was originally published on December 28, 2015, (Volume 80, Number 248, Page 80880), the meeting date is now changed. The new dates for the meeting are, Monday, February 29, 2016 and Tuesday, March 1, 2016.

DATES: The meeting will be held Monday, February 29, 2016 and Tuesday, March 1, 2016.

FOR FURTHER INFORMATION CONTACT: Donna Powers at 1-888-912-1227 or 954-423-7977.

SUPPLEMENTARY INFORMATION: Notice is hereby given pursuant to Section 10(a)(2) of the Federal Advisory Committee Act, 5 U.S.C. App. (1988) that a meeting of the Taxpayer Advocacy Panel's Tax Forms and Publications Project Committee will be held Monday, February 29, 2016, from 1:00 p.m. to 4:30 p.m. Mountain time and Tuesday, March 1, 2016, from 8:00 a.m. until 4:30 p.m. Mountain Time at the 5338 Montgomery Blvd. Albuquerque, New Mexico 87109-1338. The public is invited to make oral comments or submit written statements for consideration. Due to limited time and structure of meeting, notification of intent to participate must be made with Donna Powers. For more information please contact Donna Powers at 1-888-912-1227 or 954-423-7977, or write TAP Office, 1000 South Pine Island Road, Suite 340, Plantation, FL 33324 or contact us at the Web site: http://www.improveirs.org. The agenda will include various IRS issues.

Dated: January 7, 2016.
Antoinette Ross,
Acting Director, Taxpayer Advocacy Panel.

[FR Doc. 2016-00555 Filed 1-13-16; 8:45 am]

BILLING CODE 4830-01-P